DEPARTMENT OF THE INTERIOR

Fish and Wildlife Service

Proposed Low-Effect Habitat Conservation Plan for the City of Greeley Bellvue Filter Plant Raw Water Ponds Toe Drain Project, in Larimer County, CO

AGENCY: Fish and Wildlife Service, Interior.

ACTION: Notice of availability and receipt of application.

SUMMARY: This notice advises the public that the City of Greeley (Applicant) has applied to the U.S. Fish and Wildlife Service (Service) for an incidental take permit pursuant to section 10(a)(1)(B) of the Endangered Species Act (Act) of 1973, as amended. The proposed permit would authorize the incidental take of Preble's meadow jumping mouse, Zapus hudsonius preblei (Preble's), federally-listed as threatened, through loss and modification of its habitat, periodically used for foraging, breeding and/or hibernation, associated with construction and installation of a toe drain around the base of the perimeter of two raw water storage ponds located at the City of Greeley's Bellvue Filter Plant in Larimer County, Colorado. The duration of the permit would be 10 years from the date of issuance.

We announce the receipt of the Applicant's incidental take permit application, which includes a Low-Effect Habitat Conservation Plan (LEHCP) for Preble's at the Bellvue Filter Plant site. The LEHCP fully describes the project and the measures the Applicant would undertake to minimize and mitigate project impacts to Preble's. A bald eagle nest also exists near the project area. In the LEHCP, the Applicant proposes to avoid all adverse impacts to the bald eagle through restrictions on the timing of the project, and thus does not seek coverage under the permit for the eagle.

The Service plans to process the application under a categorical exclusion from the National Environmental Policy Act (NEPA) of 1969 in accordance with our Habitat Conservation Planning and Incidental Take Permit Processing Handbook (November 1996). We request comments on the permit application, including the LEHCP.

DATES: Written comments should be received on or before September 17, 2007.

ADDRESSES: Comments should be addressed to Susan Linner, Field Supervisor, U.S. Fish and Wildlife Service, Colorado Field Office, P.O. Box 25486, Denver, Colorado 80225. Comments also may be submitted by facsimile to (303) 236-4005. Individuals wanting copies of the LEHCP and associated documents for review should immediately contact the above office. The LEHCP and associated documents also will be available for public inspection, by appointment, during normal business hours at the above address.

FOR FURTHER INFORMATION CONTACT: Adam Misztal, (303) 236-4753, U.S. Fish and Wildlife Service, Colorado Field Office (see above).

SUPPLEMENTARY INFORMATION:

Background

Section 9 of the Act and implementing regulations prohibit the “take” of a species listed as endangered or threatened. “Take” is defined under the Act, in part, as to kill, harm, or harass a federally listed species. However, the Service may issue permits to authorize “incidental take” of a listed species under limited circumstances. Implementing regulations define “incidental taking” as any taking otherwise prohibited, if such taking is incidental to, and not the purpose of, the carrying out of an otherwise lawful activity. Regulations governing permits for threatened species are located at 50 CFR 17.32.

The project is located at the City of Greeley's Bellvue Filter Plant in Larimer County, Colorado; S½ of Section 14, in Township 8 North, Range 70 West. The Universal Transverse Mercator coordinates of the approximate center of the project area are Zone 13: 483780 mE, 4500530 mN. The Bellvue Filter Plant is the primary drinking water facility for the City of Greeley. The plant operates 24 hours a day, 7 days a week, year-round. The project involves the construction of a buried toe drain around the perimeter of two raw water ponds located at the Bellvue Filter Plant. The project is located adjacent to riparian habitat along the Cache la Poudre River, which is potentially occupied by Preble's. The project will disturb a total of 0.10 hectare (0.24 acre) of Preble's habitat 0.04 hectare (0.09 acre) of permanent impact and 0.06 hectare (0.15 acre) of temporary impact. Greeley will complete the project consistent with this LEHCP, which contains provisions to enhance habitat for Preble's and lists conservation measures for Preble's and bald eagles. The project will provide a net benefit for nesting bald eagles over the long term by protecting the two raw water ponds at the site that provide potential foraging habitat for the eagles. Greeley does not anticipate incidental take of bald eagles related to the project and, therefore, as noted above does not seek coverage for the eagle under the permit.

Development of the LEHCP identified three alternatives—(1) Construct the project while minimizing impacts to Preble's and avoid adverse impacts to bald eagles to the maximum extent practicable (Preferred Alternative); (2) Construct only that portion of the project more than 91 meters (300 feet) from the 100-year floodplain (no impact to Preble's habitat); and (3) No action. A fourth alternative, waiting for a regional section 10(A)(1)(B) permit, also was considered but not carried forward, because no regional permit is currently planned that would cover the project area.

To mitigate impacts that may result from incidental take, the LEHCP provides a conservation plan that will likely provide a net benefit to the Preble's mouse and other wildlife by enhancing certain riparian corridors on the plant site and associated wetland areas through revegetation efforts and the creation of new habitat. Project construction will disturb 0.10 hectare (0.24 acre) of riparian shrubs and trees that provide potentially suitable habitat for Preble's. Approximately 0.04 hectare (0.09 acre) of this disturbance would be permanent. To mitigate for potential impacts to Preble's, Greeley will enhance 0.16 hectare (0.40 acre) of riparian habitat. Enhancement of this acreage will include the creation of a travel corridor between two existing habitat areas. Greeley also will reseed with native grasses and revegetate with native shrubs and trees. In addition, a qualified biologist will monitor implementation of the LEHCP, including all mitigation efforts, and will prepare an annual report on the progress of habitat improvement measures for a minimum of three growing seasons, or until success criteria are met.

The Service has made the preliminary determination that approval of the LEHCP qualifies as a categorical exclusion under NEPA, as provided by the Department of the Interior Manual (516 DM 2, Appendix 1 and 516 DM 6, Appendix 1) and as a “low-effect” plan as defined by the Habitat Conservation Planning Handbook (November 1996). Determination of LEHCPs is based on the following three criteria: (1) Implementation of the LEHCP would result in minor or negligible effects on federally listed, proposed, and candidate species and their habitats; (2) implementation of the LEHCP would result in minor or negligible effects on other environmental values or resources; and (3) impacts of the LEHCP, considered together with the impacts of other past, present, and reasonably foreseeable similarly situated projects would not result, over time, in cumulative effects to environmental values or other resources that would be considered significant.

Based on this preliminary determination, we do not intend to prepare further NEPA documentation. We will consider public comments in making the final determination whether to prepare such additional documentation.

This notice is provided pursuant to section 10(c) of the Act. We will evaluate the permit application, the LEHCP, and comments submitted herein to determine whether the application meets the requirements of section 10(a) of the Act. If the requirements are met, a permit will be issued for the incidental take of Preble's in conjunction with the construction and installation of the toe drain around the perimeter of the raw water ponds located at the Bellvue Filter Plant. The final permit decision will be made after public comments are considered.

Dated: July 31, 2007.
Susan C. Linner,
Colorado Field Supervisor.

[FR Doc. E7-16122 Filed 8-15-07; 8:45 am]

BILLING CODE 4310-55-P